DEPARTMENT OF ENERGY

Federal Energy Regulatory Commission

Combined Notice of Filings

Take notice that the Commission has received the following Natural Gas Pipeline Rate and Refund Report filings:

Filings Instituting Proceedings

Docket Numbers: RP18-708-000.

Applicants: Iroquois Gas Transmission System, L.P.

Description: § 4(d) Rate Filing: 041718 Negotiated Rates—Consolidated Edison Energy, Inc. H-2275-89 to be effective 4/17/2018.

Filed Date: 4/17/18.

Accession Number: 20180417-5046.

Comments Due: 5 p.m. ET 4/30/18.

Docket Numbers: RP18-709-000.

Applicants: Elba Express Company, L.L.C.

Description: § 4(d) Rate Filing: Fuel Tracker Filing—2018 to be effective6/1/2018.

Filed Date: 4/17/18.

Accession Number: 20180417-5054.

Comments Due: 5 p.m. ET 4/30/18.

Docket Numbers: RP18-710-000.

Applicants: Gulf Crossing Pipeline Company LLC.

Description: § 4(d) Rate Filing: Cap Rel Neg Rate Agmt (Newfield 18 to Sequent 1973) to be effective 4/17/2018.

Filed Date: 4/17/18.

Accession Number: 20180417-5056.

Comments Due: 5 p.m. ET 4/30/18.

Docket Numbers: RP18-711-000.

Applicants: Tennessee Gas Pipeline Company, L.L.C.

Description: § 4(d) Rate Filing: Volume No. 2—Amend No. 1 Neg Rate Nonconforming Mitsui Co Cameron LNG SP326297 to be effective 3/1/2018.

Filed Date: 4/17/18.

Accession Number: 20180417-5200.

Comments Due: 5 p.m. ET 4/30/18.

Docket Numbers: RP18-712-000.

Applicants: Millennium Pipeline Company, LLC.

Description: Compliance filing Valley Lateral Project Compliance Filing—CP16-17 to be effective 6/16/2018.

Filed Date: 4/17/18.

Accession Number: 20180417-5201.

Comments Due: 5 p.m. ET 4/30/18.

Docket Numbers: RP18-713-000.

Applicants: Gulf Crossing Pipeline Company LLC.

Description: § 4(d) Rate Filing: Cap Rel Neg Rate Agmt (Newfield 18 to Sequent 1974) to be effective 4/18/2018.

Filed Date: 4/18/18.

Accession Number: 20180418-5021.

Comments Due: 5 p.m. ET 4/30/18.

Docket Numbers: RP18-714-000.

Applicants: Midcontinent Express Pipeline LLC.

Description: § 4(d) Rate Filing: Housekeeping Filing April 2018 to be effective 6/1/2018.

Filed Date: 4/18/18.

Accession Number: 20180418-5044.

Comments Due: 5 p.m. ET 4/30/18.

Docket Numbers: RP18-715-000.

Applicants: Centra Pipelines Minnesota Inc.

Description: § 4(d) Rate Filing: Updated Shipper Index April 2018 to be effective 6/1/2018.

Filed Date: 4/18/18.

Accession Number: 20180418-5116.

Comments Due: 5 p.m. ET 4/30/18.

Docket Numbers: RP18-716-000.

Applicants: El Paso Natural Gas Company, L.L.C.

Description: Request for Waiver and Extensions of El Paso Natural Gas Company, L.L.C.

Filed Date: 4/18/18.

Accession Number: 20180418-5146.

Comments Due: 5 p.m. ET 4/30/18.

Docket Numbers: RP18-717-000.

Applicants: Tennessee Gas Pipeline Company, L.L.C.

Description: § 4(d) Rate Filing: Clean Up Filing—Volume 2—Table of Contents to be effective 3/24/2018.

Filed Date: 4/18/18.

Accession Number: 20180418-5235.

Comments Due: 5 p.m. ET 4/30/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 19, 2018.
Nathaniel J. Davis, Sr.,
Deputy Secretary.

[FR Doc. 2018-08612 Filed 4-24-18; 8:45 am]

BILLING CODE 6717-01-P